DEPARTMENT OF TRANSPORTATION

Federal Highway Administration

Environmental Impact Statement: Mendocino, California

AGENCY: Federal Highway Administration (FHWA), Department of Transportation (DOT).

ACTION: Notice of intent to prepare a Draft Environmental Impact Statement (DEIS).

SUMMARY: The FHWA, on behalf of the California Department of Transportation (Caltrans), is issuing this notice to advise the public that a DEIS and Section 4(f) evaluation will be prepared for the Albion River Bridge Replacement/Rehabilitation Project (Project) on State Route (SR) 1, in Mendocino County, California, from post mile 43.3 to post mile 44.2.

DATES: This notice will be accompanied by a 30-day public scoping comment period from April 15, 2022, to May 16, 2022. The deadline for public comments is Monday, May 16, 2022.

Virtual Scoping Meeting: The virtual scoping meeting will be held on Thursday, May 5, 2022, from 6:00 p.m. to 7:30 p.m. via WebEx by accessing the following online meeting information below: To attend the Virtual Public Scoping Meeting online, enter this WebEx address into your web browser:

• bit.ly/Albion_Public_Meeting and enter this password: albionriver1

To attend the Virtual Public Scoping Meeting by phone, call this WebEx dial-in phone number:

• +1-408-418-9388 and enter this meeting code at the prompt: 2484 877 6866

ADDRESSES: To submit comments on the NOI, please submit them by one of the following means to ensure you do not duplicate your submissions:

• Mail: California Department of Transportation, Attention: Liza Walker, Caltrans District 1, 1656 Union Street, Eureka, CA 95501.

• Email: albionbridge@dot.ca.gov.

The comments received during this 30-day comment period will be published in the DEIS without change, including any personal information provided.

FOR FURTHER INFORMATION CONTACT: Liza Walker, Environmental Branch Chief, Caltrans District 1, 1656 Union Street, Eureka, CA 95501, telephone (707) 441-5672 or email albionbridge@dot.ca.gov.

SUPPLEMENTARY INFORMATION: Effective July 1, 2007, the FHWA assigned, and Caltrans assumed, environmental responsibilities for this project pursuant to 23 U.S.C. 327. Caltrans as the assigned National Environmental Policy Act (NEPA) agency, will prepare a DEIS and Section (4f) evaluation on a proposal for a bridge replacement/rehabilitation project in Mendocino County, California. The proposed project would involve either the replacement or rehabilitation of the existing bridge, as well as a no-action alternative, on SR 1 between post mile 43.3 to post mile 44.2.

Purpose and Need for the Proposed Action: The purpose of this Project is to either replace or rehabilitate the seismically and structurally deficient Albion River Bridge with a structure that would ensure the safety and reliability of this critical link on SR 1 of the state highway system. The Project is needed to address several critical deficiencies associated with the existing bridge. Correcting these deficiencies would improve safety for all users and reduce the chance of catastrophic bridge failure.

Preliminary Description of the Proposed Action and Alternatives: A reasonable range of alternatives for detailed study in the DEIS is currently being considered and will be refined in consideration of agency and public comments received during the 30-day NOI comment period. In addition to the No Action Alternative, potential project alternatives include bridge replacement and bridge rehabilitation. A preliminary description of these potential alternatives is provided below.

The No Action Alternative assumes no improvements other than those implemented as part of routine maintenance. The Bridge Replacement Alternatives would replace the existing Albion River Bridge with a new bridge. Various bridge replacement concepts will be considered during the scoping process, including a west alignment constructed to the west of the existing bridge, an east alignment constructed to the east of the existing bridge, and on-alignment constructed slightly west of the existing alignment. The Bridge Rehabilitation Alternatives would require major work to extend the service life of the existing Albion River Bridge. The Bridge Rehabilitation Alternatives would include rehabilitation of the bridge for motor vehicle use by widening the bridge and upgrading the bridge rails, or rehabilitation of the bridge as a pedestrian-only bridge alongside one of the bridge replacement alternatives. The operability of the bridge would need to be maintained while addressing structural deficiencies, geometric deficiencies, and operational reliability of the bridge.

Summary of Expected Impacts: The DEIS will include an evaluation of the potential social, economic, and environmental effects resulting from the implementation of the Project. Based on preliminary review of existing conditions within and in proximity to the Project location, the implementation of the Project could result in effects to cultural and historic resources; community resources; parks and recreational areas; threatened and endangered species; wetlands; coastal resources; navigable waters; hazardous waste and contaminated materials; floodplains; noise; air quality; and visual resources. The analyses and evaluations conducted for the DEIS will identify the potential for effects; whether the anticipated effects would be adverse; and mitigation measures for adverse effects. Evaluations under Section 4(f) of the USDOT Act of 1966, 23 CFR part 774, will be prepared, and consultation under Section 106 of the National Historic Preservation Act of 1966, 54 U.S.C. 300101-307108, will be undertaken concurrently with the NEPA/CEQA environmental review processes.

Anticipated Permits and Other Authorizations: Potential permits and approvals for the Project include: U.S. Army Corps of Engineers (USACE) permits under section 404 of the Clean Water Act, 33 U.S.C. 1344, and section 10 of the Rivers and Harbors Act, 33 U.S.C. 403, for construction in the Albion River and potential wetland impacts; U.S. Coast Guard (USCG) Bridge Permit, which establishes allowable clearances for bridges over navigable waterways such as the Albion River; National Marine Fisheries Service (NMFS) section 7 Endangered Species Act, 16 U.S.C. 1536, NMFS Essential Fish Habitat Consultation for potential impacts to species due to construction in the Albion River, consultation for potential impacts on threatened and/or endangered species; U.S. Fish and Wildlife Service (USFWS) section 7 Endangered Species Act, 16 U.S.C. 1536, consultation for potential impacts to federally-listed threatened species; as well as any other relevant California State and Local Agency permits and authorizations.

Schedule for the Decision-Making Process: The Project schedule will be established as part of the requirements of the environmental review process under 23 U.S.C. 139 Efficient environmental reviews for project decision-making.

The anticipated project schedule is outlined below:

• Public Scoping Meetings (May 2022)

• Scoping Report Publication (June 2022)

• Notice of Availability of the DEIS (May 2023)

• Public Hearing (June 2023)

• End of DEIS Comment Period (July 2023)

• Publish Single Final EIS (FEIS)/ROD (March 2024)

A Description of the Public Scoping Process: Public and agency outreach will include a formal Public Scoping Meeting scheduled in May 2022. Letters describing the proposed action and soliciting comments will be sent to appropriate Federal, State, Native American Tribes and local agencies, and to private organizations and citizens who have previously expressed or are known to have interest in this proposal. A Public Hearing on the DEIS will also be scheduled during circulation of the environmental document.

To ensure that the full range of issues related to this proposed action are addressed and all significant issues identified, comments, and suggestions are invited from all interested parties. Comments or questions concerning this proposed action and the DEIS should be directed to Caltrans at the address provided above.

(Catalog of Federal Domestic Assistance Program Number 20.205, Highway Planning and Construction. The regulations implementing Executive Order 12372 regarding intergovernmental consultation on Federal programs and activities apply to this program.)

Dated: April 12, 2022.
Christina Leach,
Acting Director, Planning, Environment and Right of Way, Federal Highway Administration, California Division.

[FR Doc. 2022-08270 Filed 4-18-22; 8:45 am]

BILLING CODE 4910-22-P